DEPARTMENT OF HOMELAND SECURITY

Coast Guard

33 CFR Part 117

[Docket No. USCG-2015-0521]

Drawbridge Operation Regulation; Isle of Wight (Sinepuxent) Bay, Ocean City, MD

AGENCY: Coast Guard, DHS.

ACTION: Notice of deviation from drawbridge regulation.

SUMMARY: The Coast Guard has issued a temporary deviation from the operating schedule that governs the US Route 50 Bridge across the Isle of Wight (Sinepuxent) Bay, mile 0.5, at Ocean City, MD. The deviation is necessary to facilitate the Annual July 4th Fireworks show. This deviation allows the bridge to remain closed to navigation to accommodate heavy volumes of vehicular traffic following the fireworks show.

DATES: This deviation is effective from 9:30 p.m. to 11:30 p.m. on July 4, 2015.

ADDRESSES: The docket for this deviation, [USCG-2015-0521] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Traci Whitfield, Bridge Management Assistant, Fifth Coast Guard District, telephone (757) 398-6629, email Traci.G.Whitfield@uscg.mil. If you have questions on viewing the docket, call Cheryl Collins, Program Manager, Docket Operations, telephone (202) 366-9826.

SUPPLEMENTARY INFORMATION: The Ocean City Police Department on behalf of the Maryland State Highway Administration, has requested a temporary deviation from the current operating regulation of the US Route 50 Bridge across Isle of Wight (Sinepuxent) Bay, mile 0.5, at Ocean City, MD. This temporary deviation allows the US Route 50 Bridge to remain closed to navigation from 9:30 p.m. to 11:30 p.m. on July 4, 2015. This is an additional 30 minutes before and after the normal operating schedule for this bridge during that time. This additional closure has been requested to ensure the safety of spectators that attend the annual Ocean City July 4th fireworks show and allow for the heavy volume of vehicular traffic that transit across the drawbridge. For these reasons, should inclement weather prevent the fireworks event from taking place as planned, this deviation permits the bridge to remain closed from 9:30 p.m. to 11:30 p.m. on July 5th, 2015.

The vertical clearance of this bascule bridge is 13 feet above mean high water in the closed position and unlimited in the open position. The current operating regulation is outlined at 33 CFR 117.559(c), which allows the bridge to remain closed to navigation from 10 p.m. to 11 p.m. to accommodate the annual July 4th fireworks show

Vessels able to pass under the bridge in the closed position may do so at any time. The bridge will be able to open for emergencies and the Atlantic Ocean can be used as an alternate route for vessels with mast heights greater than 13 feet. The Coast Guard will also inform the users of the waterways, through our Local and Broadcast Notices to Mariners, of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 15, 2015.
Hal R. Pitts,
Bridge Program Manager, Fifth Coast Guard District.

[FR Doc. 2015-15082 Filed 6-18-15; 8:45 am]

BILLING CODE 9110-04-P